DEPARTMENT OF HEALTH AND HUMAN SERVICES

Centers for Medicare & Medicaid Services

42 CFR Part 412

[CMS-1783-CN]

RIN 0938-AV06

Medicare Program; FY 2024 Inpatient Psychiatric Facilities Prospective Payment System—Rate Update; Correction

AGENCY: Centers for Medicare & Medicaid Services (CMS), Department of Health and Human Services (HHS).

ACTION: Final rule; correction.

SUMMARY: This document corrects technical errors that appeared in the final rule published in the Federal Register on August 2, 2023 entitled “Medicare Program; FY 2024 Inpatient Psychiatric Facilities Prospective Payment System—Rate Update”.

DATES: This correction is effective October 1, 2023.

FOR FURTHER INFORMATION CONTACT: The IPF Payment Policy mailbox at IPFPaymentPolicy@cms.hhs.gov for information regarding the IPF wage index.

Lauren Lowenstein-Turner, (410) 786-4507, for information regarding the inpatient psychiatric facilities quality reporting program.

SUPPLEMENTARY INFORMATION:

I. Background

In FR Doc. 2023-16083 of August 2, 2023, the fiscal year (FY) 2024 Inpatient Psychiatric Facilities Prospective Payment System (IPF PPS) final rule (88 FR 51054), there were technical errors that are identified and corrected in this correcting document. These corrections are effective as if they had been included in the FY 2024 IPF PPS final rule. Accordingly, the corrections are effective October 1, 2023.

II. Summary of Errors

On page 51115, in the first line of the first column, we omitted a link after the phrase “available at.”

On page 51122, in the first paragraph of the first column, we omitted a link after the phrase “we refer readers to the description of the survey in the Journal of Patient Experience:”.

On page 51122, in item (4) in the last paragraph of the second column, there is an extra “of”.

On page 51129, in footnote 218, the link is incorrect.

On page 51129, in footnote 219, the link is incorrect.

On page 51129, in footnote 223, we omitted a link after “. . . Bivalent Vaccine Boosters.”.

On page 51136, in the first partial paragraph of the third column, we incorrectly included the phrase “and patient.”

On page 51136, in the first full paragraph of the third column, we incorrectly included the phrase “prior to during the patient's discharge planning.”

On page 51138, in the notes following Table 21, “IPFQR Program Measure Set for the FY 2025 Payment Determination”, the “¹” is missing from in front of the last sentence.

On page 51141, the title of Table 24, “IPFQR Program Measure Set for the FY 2029 Payment Determination”, is incorrect.

On page 51142, in the second paragraph under section 1 (Procedural Requirements for the FY 2024 Payment Determination and Subsequent Years) of the first column, there is a grammatical error.

On page 51143, in the fourth full paragraph of the third column, there is a missing apostrophe.

On page 51149, in Table 27, “Updates to Burden Associated with Measure Removals”, the total annual cost in the total row is incorrect.

On page 51150, in Table 30, “Total CY 2024 Facility Information Collection Burden Changes”, the table title should be bold font. In addition, the change in total responses associated with the updated case estimate, the total cost associated with removing two measures, total number of responses, and the total annual cost are incorrect.

On page 51151, in the single partial paragraph in the third column, we incorrectly included ”)”.

On page 51154, in Table 37, “Incremental Changes in Facility Burden”, the total number of responses is incorrect.

On page 51154, in the paragraph between Table 37 and Table 38, “Incremental Changes in Survey Burden for Patients”, there is a typographical error in the description of Table 38.

On page 51159, in the first full paragraph of the first column, there is an extra period.

On page 51159, in the first full paragraph of the second column, there is a missing apostrophe.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the document.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

We believe that this correcting document does not constitute a rule that would be subject to the notice and comment or delayed effective date requirements. This document corrects technical and typographic errors in the preamble of the FY 2024 IPF PPS final rule, as well as two tables on the Centers for Medicare and Medicaid Services (CMS) website, but does not make substantive changes to the policies or payment methodologies that were adopted in the final rule. As a result, this correcting document is intended to ensure that the information in the FY 2024 IPF PPS final rule accurately reflects the policies adopted in that document.

In addition, even if this were a rule to which the notice and comment procedures and delayed effective date requirements applied, we find that there is good cause to waive such requirements. Undertaking further notice and comment procedures to incorporate the corrections in this document into the final rule or delaying the effective date would be contrary to the public interest because it is in the public's interest for IPFs to receive appropriate payments in a timely manner to ensure that the FY 2024 IPF PPS final rule accurately reflects our policies as of the date they take effect and are applicable. Furthermore, such procedures would be unnecessary, as we are not altering our payment methodologies or policies, but rather, we are simply correctly implementing the policies that we previously proposed, received comment on, and subsequently finalized. This correcting document is intended solely to ensure that the FY 2024 IPF PPS final rule accurately reflects these payment methodologies and policies. For these reasons, we believe we have good cause to waive the notice and comment and effective date requirements.

IV. Correction of Errors

A. Correction of Errors in the Preamble

In FR Doc. 2023-16083 of August 2, 2023 (88 FR 51054), make the following corrections:

1. On page 51115, first column, first partial paragraph, in line 1, add the following link after the phrase “available at:”: “https://www.qualityreportingcenter.com/globalassets/2023/04/iqr/sdoh-measure--faqs_vfinal_04012023508.pdf”.

2. On page 51122:

a. First column, first paragraph, in the last line, add the following link after the phrase “we refer readers to the description of the survey in the Journal of Patient Experience:”: “https://journals.sagepub.com/doi/full/10.1177/23743735221105671”.

b. Second column, last paragraph, in item (4) on lines 21 and 22, replace the phrase “data regarding of mode of administration” with “data regarding mode of administration”.

3. On page 51129:

a. In footnote 218, replace the link with “https://www.cdc.gov/mmwr/volumes/70/wr/pdfs/mm7037e1-H.pdf”.

b. In footnote 219, replace the link with “https://www.cdc.gov/mmwr/volumes/70/wr/pdfs/mm7037e1-H.pdf”.

c. In footnote 223 after “. . . Bivalent Vaccine Boosters.”, add the following: “Available at: https://www.fda.gov/emergency-preparedness-and-response/coronavirus-disease-2019-covid-19/covid-19-bivalent-vaccines”.

4. On page 51136, third column:

a. In the first partial paragraph, line 1, remove the phrase “and patient”.

b. In the first full paragraph, in lines 12 and 13, remove the phrase “prior to during the patient's discharge planning”.

5. On page 51138, in the notes following Table 21, add “¹” prior to the last sentence, which reads “We are modifying the COVID-19 Vaccination Coverage Among Healthcare Personnel (HCP) measure in section VI.E of this final rule.”

6. On Page 51141, replace the title of Table 24 “TABLE 24: IPFQR MEASURE SET FOR THE FY 2029 PAYMENT DETERMINATION” with “TABLE 24: IPFQR MEASURE SET FOR THE FY 2028 PAYMENT DETERMINATION”.

7. On page 51142, first column, under the section titled, “1. Procedural Requirements for the FY 2024 Payment Determination and Subsequent Years”, in the second paragraph, in lines 5 through 8, replace the phrase “procedural requirements for an IPF to register for, or withdraw from, participation in the IPFQR Program” with “procedural requirements for an IPF to register for, withdraw from, or participate in the IPFQR Program”.

8. On page 51143, third column, in the fourth full paragraph, in lines 1 and 2, replace the phrase “We understand the commenters concern” with “We understand the commenter's concern”.

9. On page 51149, in Table 27, the total annual cost in the total row, which currently reads “(20,339,673)” should read “(20,399,673)”.

10. On page 51150, in Table 30:

a. Correct the table title to be bold font.

b. Replace the change in total responses associated with updating the case estimate, which currently reads “(277,280)” with “(277,780)”, consistent with the discussion at the top of page 51150 in which the number of cases for each of the two removed measures is 138,890 (138,890 × 2 = 277,780).

c. Replace the change in total annual cost associated with removing two measures, which currently reads “(20,339,673)” with “(20,399,673)”.

d. Replace the total number of responses, which currently reads “(2,502,332),” with “(2,502,832)”.

e. Replace the total annual cost, which currently reads “(16,071,360),” with “(16,131,359)”.

11. On page 51151, third column, in the single partial paragraph, in the second to last sentence, replace the phrase “for a medical records specialist) for the voluntary reporting period.” with “for a medical records specialist for the voluntary reporting period.”

12. On page 51154:

a. In Table 37, replace the total number of responses which currently reads “(2,018,244),” with “(2,019,244)”.

b. Third column, in the paragraph between Table 37 and Table 38 replace “in CYs 2024 through CY 2026” with “in CY 2024 through CY 2027”.

13. On page 51159:

a. First column, first full paragraph, in lines 16 through 24, replace the phrase “(including, but not limited to helping patients select facilities in which to receive care, providing patients an opportunity to be heard, and increasing alignment between general acute and acute psychiatric settings). We believe that our PIX survey measure will have positive effects on patients and their caregivers.” with “(including, but not limited to helping patients select facilities in which to receive care, providing patients an opportunity to be heard, and increasing alignment between general acute and acute psychiatric settings), we believe that our PIX survey measure will have positive effects on patients and their caregivers.”

b. Second column, first full paragraph, in lines 8 and 9, replace the phrase “providers workflows or information systems” with “providers' workflows or information systems.”

B. Summary of Errors in and Corrections to the Tables Posted on the CMS Website for the IPF PPS Wage Index

As discussed in the FY 2024 IPF PPS final rule (88 FR 51085), we used the concurrent pre-floor, pre-reclassified Inpatient Prospective Payment System (IPPS) hospital wage index as the basis for the IPF wage index. For FY 2024, concurrent pre-floor, pre-reclassified IPPS hospital wage data used under the IPF PPS are for cost reporting periods beginning on or after October 1, 2019, and before October 1, 2020 (FY 2020 cost report data), as discussed in the final rule entitled “Medicare Program; Hospital Inpatient Prospective Payment Systems for Acute Care Hospitals and the Long-Term Care Hospital Prospective Payment System and Policy Changes and Fiscal Year 2024 Rates; Quality Programs and Medicare Promoting Interoperability Program Requirements for Eligible Hospitals and Critical Access Hospitals; Rural Emergency Hospital and Physician-Owned Hospital Requirements; and Provider and Supplier Disclosure of Ownership; and Medicare Disproportionate Share Hospital (DSH) Payments: Counting Certain Days Associated with Section 1115 Demonstrations in the Medicaid Fraction” (88 FR 58640) (hereinafter referred to as the FY 2024 IPPS final rule). In calculating the wage index under the FY 2024 IPPS final rule, we made an inadvertent error related to the calculation of the wage index. This error is identified, discussed and corrected in the document entitled “Medicare Program; Hospital Inpatient Prospective Payment Systems for Acute Care Hospitals and the Long-Term Care Hospital Prospective Payment System and Policy Changes and Fiscal Year 2024 Rates; Quality Programs and Medicare Promoting Interoperability Program Requirements for Eligible Hospitals and Critical Access Hospitals; Rural Emergency Hospital and Physician-Owned Hospital Requirements; and Provider and Supplier Disclosure of Ownership; and Medicare Disproportionate Share Hospital (DSH) Payments: Counting Certain Days Associated with Section 1115 Demonstrations in the Medicaid Fraction; Correction,” published elsewhere in this issue of the Federal Register. The error that affects the unadjusted, pre-reclassified, pre-rural floor IPPS wage data and thereby affects the IPF PPS wage data was an error in the wage data collected from the Medicare cost reports of one hospital CMS Certification Number (CCN) 340064—Core-Based Statistical Areas (CBSA) 34 rural North Carolina).

The use of the corrected wage data for the one hospital in CBSA 34 required the recalculation of the final FY 2024 IPF PPS wage indexes. Additionally, as discussed in the FY 2024 IPF PPS final rule (88 FR 51087), changes to the wage index are made in a budget-neutral manner so that updates do not increase expenditures. Due to the recalculation and subsequent revision of the final FY 2024 IPF PPS wage indexes, it was necessary to recalculate the FY 2024 IPF PPS wage index budget neutrality factor. However, CMS has determined there are no changes needed to the published wage index budget neutrality factor since the difference between the previously published factor and the newly calculated factor is within the margin of error for rounding. Additionally, due to the recalculated wage indexes, we recalculated the impact analysis provided in Table 40 of the FY 2024 IPF PPS final rule (88 FR 51157 through 51158). However, similar to the budget neutrality factor calculation, there are no changes needed to the published values in Table 40, since all changes were within the margin of error for rounding.

As discussed above, there were no errors noted to the IPF PPS wage index budget neutrality factor or the facility impacts in Table 40. We are correcting the wage index in Table B setting forth the wage indexes for rural areas based on CBSA labor market areas Table B and Table C setting forth the wage indexes for urban and rural areas without counties (Table C), which are available exclusively on the CMS website at https://www.cms.gov/medicare/medicare-fee-for-service-payment/inpatientpsychfacilpps/wageindex.

Dated: September 27, 2023.
Wilma Robinson,
Deputy Executive Secretary, Department of Health and Human Services.

[FR Doc. 2023-22053 Filed 9-29-23; 4:15 pm]

BILLING CODE 4120-01-P